DEPARTMENT OF TRANSPORTATION

Federal Aviation Administration

14 CFR Part 39

[Docket No. FAA-2005-22485; Directorate Identifier 2001-NM-337-AD; Amendment 39-14293; AD 2005-19-28]

RIN 2120-AA64

Airworthiness Directives; Airbus Model A330-301, -321, -322, -341, and -342 Airplanes; and Model A340-200 and A340-300 Series Airplanes

AGENCY: Federal Aviation Administration (FAA), Department of Transportation (DOT).

ACTION: Final rule; request for comments.

SUMMARY: The FAA is adopting a new airworthiness directive (AD) for certain Airbus Model A330-301, -321, -322, -341, and -342 airplanes; and Model A340-200 and A340-300 series airplanes. This AD requires repetitive inspections for cracks in the aft face of the rear spar at the area adjacent to the bolt holes and the end of the build slot, and repair if necessary. The AD also provides an optional terminating action for the repetitive inspections. This AD results from a report that, during fatigue tests of the wing, cracks were found in the vertical web of the rear spar between ribs 1 and 2 having initiated at the build slot. We are issuing this AD to detect and correct fatigue cracking in the vertical web of the wing rear spar, which could result in reduced structural integrity of the wing.

DATES: Effective October 18, 2005.

The Director of the Federal Register approved the incorporation by reference of certain publications listed in the AD as of October 18, 2005.

We must receive comments on this AD by December 2, 2005.

ADDRESSES: Use one of the following addresses to submit comments on this AD.

• DOT Docket web site: Go to http://dms.dot.gov and follow the instructions for sending your comments electronically.

• Government-wide rulemaking web site: Go to http://www.regulations.gov and follow the instructions for sending your comments electronically.

• Mail: Docket Management Facility; U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

Contact Airbus, 1 Rond Point Maurice Bellonte, 31707 Blagnac Cedex, France, for service information identified in this AD.

You may examine the contents of the AD docket on the Internet at http://dms.dot.gov, or in person at the Docket Management Facility, U.S. Department of Transportation, 400 Seventh Street SW., Room PL-401, Washington, DC. This docket number is FAA-2005-22485; the directorate identifier for this docket is 2001-NM-337-AD.

FOR FURTHER INFORMATION CONTACT: Tim Backman, Aerospace Engineer, ANM-116, International Branch, FAA, Transport Airplane Directorate, 1601 Lind Avenue, SW., Renton, Washington 98055-4056; telephone (425) 227-2797; fax (425) 227-1149.

SUPPLEMENTARY INFORMATION:

Comments Invited

Although this is a final rule that was not preceded by notice and an opportunity for public comment, we invite you to submit any relevant written data, views, or arguments regarding this AD. Include “Docket No. FAA-2005-22485; Directorate Identifier 2001-NM-337-AD” at the beginning of your comments. We specifically invite comments on the overall regulatory, economic, environmental, and energy aspects of the AD. We will consider all comments received by the closing date and may amend the AD in light of those comments.

We will post all comments we receive, without change, to http://dms.dot.gov, including any personal information you provide. We will also post a report summarizing each substantive verbal contact with FAA personnel concerning this AD. Using the search function of that web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Direction Generale de l'Aviation Civile (DGAC), which is the airworthiness authority for France, notified us that an unsafe condition may exist on certain Airbus Model A330-301, -321, -322, -341, and -342 airplanes; and Model A340-200 and A340-300 series airplanes. The DGAC advises that, during fatigue tests of the wing, cracks were found in the vertical web of the rear spar between ribs 1 and 2. These fatigue cracks propagated from the build slot to the nearest adjacent bolt hole. This condition, if not corrected, could result in reduced structural integrity of the wing.

Relevant Service Information

Airbus has issued Service Bulletin A330-57-3059, Revision 01, dated September 13, 2001 (for Model A330-301, -321, -322, -341, and -342 airplanes); and Service Bulletin A340-57-4066, Revision 01, dated September 13, 2001 (for Model A340-200 and A340-300 series airplanes). The service bulletins describe procedures for doing repetitive high-frequency eddy current (HFEC) inspections for cracks in the aft face of the rear spar at the area adjacent to the bolt holes and the end of the build slot. If no cracks are found, the service bulletins give intervals for repeating the HFEC inspection until the terminating action, described below, is accomplished. If any crack is found the service bulletins give the following procedures for repair, depending on the extent of the crack.

• For any crack that has not reached the fastener holes “B,” and is still within a specified modification cut-out area, the service bulletins state that the airplane may continue operation at various reduced inspection intervals, depending on the length of the crack, until the terminating action is accomplished.

• For any crack that extends to fastener holes “B,” but not beyond, the service bulletin gives procedures for doing a temporary repair and then doing the terminating action, described below, at a specified interval following the temporary repair. The temporary repair includes the related investigative action of a leak test after the access panels are installed at the work area.

• If any crack is found that extends beyond the specified modification cut-out area, the service bulletin specifies that operators should contact Airbus for repair instructions.

Airbus has also issued Service Bulletin A330-57-3058, dated August 29, 2001 (for Model A330-301, -321, -322, -341, and -342 airplanes); and Service Bulletin A340-57-4065, dated August 29, 2001 (for Model A340-200 and A340-300 series airplanes). These service bulletins describe procedures for changing the profile of the end radius of the build slot to reduce the stress concentration in the area, which reduces the probability of fatigue cracking. The re-profiling involves first doing an HFEC inspection for cracks of the aft face of the rear spar at the area adjacent to the bolt holes. If cracks are found that will be removed by the re-profiling cut-out, the service bulletins specify that the re-profiling can proceed. If any crack is found that is outside the re-profiling cut-out, the service bulletins specify contacting Airbus for repair instructions before further flight. Doing this re-profiling eliminates the need for the repetitive inspection requirements of Airbus Service Bulletins A330-57-3059 and A340-57-4066.

Accomplishing the actions specified in the service information is intended to adequately address the unsafe condition. The DGAC mandated the service information and issued French airworthiness directives 2001-268(B) R1, dated July 25, 2001, and 2001-269(B), dated June 27, 2001, to ensure the continued airworthiness of these airplanes in France.

FAA's Determination and Requirements of This AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are issuing this AD to detect and correct fatigue cracking in the vertical web of the wing rear spar, which could result in reduced structural integrity of the wing. This AD requires accomplishing the actions specified in the service information described previously.

Differences Between the AD and the French Airworthiness Directives

The applicability of the French airworthiness directives excludes airplanes on which Airbus Service Bulletins A330-57-3058 or A340-57-4065 was accomplished in service, as applicable. However, we have not excluded those airplanes in the applicability of this AD; rather, this AD includes a requirement to accomplish the actions specified in the applicable service bulletin. This requirement would ensure that the actions specified in the service bulletin and required by this AD are accomplished on all affected airplanes. Operators must continue to operate the airplane in the configuration required by this AD unless an alternative method of compliance is approved.

Unlike the procedures described in the service bulletins that are mandated by the French airworthiness directives, this AD would not permit further flight if any crack is detected. For cracks that have not reached fastener holes “B” or that extend to fastener holes “B,” but not beyond, this AD requires doing the temporary repair in accordance with the service bulletin. In addition, unlike the procedures described in the service bulletins, this AD would not permit further flight if any crack has extended beyond the fastener holes “B,” and is still within a specified modification cut-out area. We have determined that, because of the safety implications and consequences associated with that cracking, any crack of this size must be permanently repaired (by using the re-profiling procedure) before further flight.

The service bulletins that are mandated by the French airworthiness directives specify that you may contact the manufacturer for instructions on how to repair certain conditions, but this AD would require you to repair those conditions using a method that we or the DGAC (or its delegated agent) approve. In light of the type of repair that would be required to address the unsafe condition, and consistent with existing bilateral airworthiness agreements, we have determined that, for this AD, a repair we or the DGAC approve would be acceptable for compliance with this AD.

These differences have been coordinated with the DGAC.

Costs of Compliance

None of the airplanes affected by this action are on the U.S. Register. All airplanes affected by this AD are currently operated by non-U.S. operators under foreign registry; therefore, they are not directly affected by this AD action. However, we consider this AD necessary to ensure that the unsafe condition is addressed if any affected airplane is imported and placed on the U.S. Register in the future.

The following table provides the estimated costs to comply with this AD for any affected airplane that might be imported and placed on the U.S. Register in the future.

Estimated Costs
Action | Work hours | Average labor rate per hour | Parts cost | Cost per airplane
HFEC Inspection, per inspection cycle | 2 | $65 | None | $130, per inspection cycle.
Re-profiling (Optional Terminating Action) | 70 | $65 | None | $4,550.

FAA's Determination of the Effective Date

No airplane affected by this AD is currently on the U.S. Register. Therefore, providing notice and opportunity for public comment is unnecessary before this AD is issued, and this AD may be made effective in less than 30 days after it is published in the Federal Register.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-19-28 Airbus: Amendment 39-14293. Docket No. FAA-2005-22485; Directorate Identifier 2001-NM-337-AD.

Effective Date

(a) This AD becomes effective October 18, 2005.

Affected ADs

(b) None.

Applicability

(c) This AD applies to Airbus Model A330-301, -321, -322, -341, and -342 airplanes; and Model A340-211, -212, -213, -311, -312, and -313 airplanes; certificated in any category; except airplanes on which Airbus Modification 41300 or 42547 has been accomplished, as applicable.

Unsafe Condition

(d) This AD results from a report that, during fatigue tests of the wing, cracks were found in the vertical web of the rear spar between ribs 1 and 2 having initiated at the build slot. The FAA is issuing this AD to detect and correct fatigue cracking in the vertical web of the wing rear spar, which could result in reduced structural integrity of the wing.

Compliance

(e) You are responsible for having the actions required by this AD performed within the compliance times specified, unless the actions have already been done.

Service Bulletin Reference

(f) Unless otherwise specified in this AD, the term “service bulletin,” as used in this AD, means the Accomplishment Instructions of the following service bulletins, as applicable:

(1) For Model A330-301, -321, -322, -341, and -342 airplanes: Airbus Service Bulletin A330-57-3059, Revision 01, dated September 13, 2001; and

(2) For Model A340-211, -212, -213, -311, -312, and -313 airplanes: Airbus Service Bulletin A340-57-4066, Revision 01, dated September 13, 2001.

Repetitive Inspections

(g) At the applicable threshold in Table 1 of this AD, do a high frequency eddy current inspection for cracks in the aft face of the rear spar at the area adjacent to the bolt holes and the end of the build slot; and repeat the inspection thereafter at the applicable repetitive interval in Table 1 of this AD, until the repair required by paragraph (k) of this AD is accomplished. Do all inspections in accordance with the applicable service bulletin.

Table 1.—Inspection Thresholds and Intervals
Model— | Threshold: The later of— | Repetitive interval: The earlier of—
A330-301, -321, -322, -341, and -342 airplanes | • Before the accumulation of 10,300 total flight cycles or 32,000 total flight hours, whichever occurs earlier; or | • 8,300 flight cycles; and • 25,800 flight hours.
| • Within 6 months after the effective date of this AD.
A340-211, -212, -213, -311, -312, and -313 airplanes | • Before the accumulation of 9,800 total flight cycles or total 48,200 flight hours, whichever occurs earlier; or | • 8,200 flight cycles; and • 40,100 flight hours.
| • Within 6 months after the effective date of this AD.

Repair

(h) If any crack is found during any inspection required by paragraph (g) of this AD, and the crack has not reached the fastener holes “B” or extends to fastener holes “B,” but not beyond, before further flight: Do the temporary repair in accordance with the applicable service bulletin and repeat the inspection thereafter at the applicable interval in paragraph (g) of this AD until the permanent repair required by paragraph (k) of this AD is accomplished.

(i) If any crack is found during any inspection required by paragraph (g) of this AD, and the crack has extended beyond fastener holes “B,”: Before further flight, do the permanent repair in paragraph (k) of this AD.

(j) Where the service bulletin specifies that operators may contact the manufacturer for instructions on how to repair cracks that extend beyond the modification cut-out area: Before further flight, repair according to a method approved by either the Manager, International Branch, ANM-116, FAA, Transport Airplane Directorate; or the Direction Générale de l'Aviation Civile (DGAC) (or its delegated agent).

Optional Terminating Action—Permanent Repair (Re-Profiling)

(k) Doing the permanent repair in accordance with the applicable service bulletin in paragraph (k)(1) or (k)(2) of this AD terminates the repetitive inspection requirements of this AD. Where the service bulletins in paragraph (k)(1) and (k)(2) of this AD specify that operators may contact the manufacturer for instructions on how to repair certain conditions: Before further flight, repair according to a method approved by either the Manager, International Branch, ANM-116, FAA, Transport Airplane Directorate; or the DGAC (or its delegated agent).

(1) For Model A330-301, -321, -322, -341, and -342 airplanes: Airbus Service Bulletin A330-57-3058, dated August 29, 2001.

(2) For Model A340-211, -212, -213, -311, -312, and -313 airplanes: Airbus Service Bulletin A340-57-4065, dated August 29, 2001.

Actions Done in Accordance With Previous Issues of Service Bulletins

(l) Actions done before the effective date of this AD in accordance with the service bulletins identified in Table 2 of this AD, are acceptable for compliance with the corresponding action required by this AD.

Table 2.—Previous Issues of Service Bulletins
Airbus Service Bulletins | Date
A330-57-3059 | March 16, 2001.
A340-57-4066 | March 16, 2001.

Alternative Methods of Compliance (AMOCs)

(m)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(n) French airworthiness directives 2001-268(B) R1, dated July 25, 2001, and 2001-269(B), dated June 27, 2001, also address the subject of this AD.

Material Incorporated by Reference

(o) You must use the Airbus service bulletins identified in Table 3 of this AD to perform the actions that are required by this AD, as applicable, unless the AD specifies otherwise. The Director of the Federal Register approved the incorporation by reference of these documents in accordance with 5 U.S.C. 552(a) and 1 CFR part 51. Contact Airbus, 1 Rond Point Maurice Bellonte, 31707 Blagnac Cedex, France, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Table 3.—Material Incorporated by Reference
Airbus Service Bulletins | Revision level | Date
A330-57-3058 | Original | August 29, 2001.
A330-57-3059 | 01 | September 13, 2001.
A340-57-4065 | Original | August 29, 2001.
A340-57-4066 | 01 | September 13, 2001.

Issued in Renton, Washington, on September 15, 2005.
Ali Bahrami,
Manager, Transport Airplane Directorate, Aircraft Certification Service.

[FR Doc. 05-19045 Filed 9-30-05; 8:45 am]

BILLING CODE 4910-13-P